DEPARTMENT OF DEFENSE

Office of the Secretary

[Docket ID: DoD-2008-OS-0083]

Privacy Act of 1974; System of Records

AGENCY: Defense Information Systems Agency, DoD.

ACTION: Notice To Amend a System of Records.

SUMMARY: Defense Information Systems Agency proposes to amend a system of records notice in its existing inventory of records systems subject to the Privacy Act of 1974, (5 U.S.C. 552a), as amended.

DATES: This proposed action will be effective without further notice on September 11, 2008 unless comments are received which result in a contrary determination.

ADDRESSES: Send comments to the Defense Information Systems Agency, 5600 Columbia Pike, Room 933-I, Falls Church, VA 22041-2705.

FOR FURTHER INFORMATION CONTACT: Ms. Jeanette M. Weathers-Jenkins at (703) 681-2103.

SUPPLEMENTARY INFORMATION: The Defense Information Systems Agency systems of records notices subject to the Privacy Act of 1974, (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: August 1, 2008.
Patricia L. Toppings,
OSD Federal Register Liaison Officer, Department of Defense.

K890.11

System Name:

Manage to Pay (M2P) Files (June 12, 2008, 73 FR 33412).

Changes:

* * * * *

Categories of Records in the System:

Delete entry and replace with “Individual's name, Grade, Pay cost, Location code (Org), Program element code (PE), Object class code (EEIC), Gross reconciliation code (GRC), Hours, Document number, and Emergency or Special Pay Code (ESP).”

* * * * *

Retention and Disposal:

Delete entry and replace with “Records are continuously updated. Obsolete computer records are erased or overwritten at the end of two years.”

* * * * *

K890.11

System Name:

Manage to Pay (M2P) Files.

System Location:

Defense Information Systems Agency (DISA), ATTN: CFE7, P.O. Box 4502, Arlington, VA 22204-4502.

Categories of Individuals Covered by the System:

DISA civilian employees.

Categories of Records in the System:

Individual's name, Grade, Pay cost, Location code (Org), Program element code (PE), Object class code (EEIC), Gross reconciliation code (GRC), Hours, Document number, and Emergency or Special Pay Code (ESP).

Authority for Maintenance of the System:

5 U.S.C. 301, Departmental Regulations; 10 U.S.C. 113, Secretary of Defense; DoD Directive 5105.19, Defense Information Systems Agency (DISA); and E.O. 9397 (SSN).

Purpose(s):

To assist DISA officials and employees in the management, supervision, and administration of the decentralized payroll system.

Routine Uses of Records Maintained in the System, Including Categories of Users and the Purposes of Such Uses:

In addition to those disclosures generally permitted under 5 U.S.C. 552a(b) of the Privacy Act, these records or information contained therein may specifically be disclosed outside the DoD as a routine use pursuant to 5 U.S.C. 552a(b)(3) as follows:

The “Blanket Routine Uses” set forth at the beginning of the DISA's compilation of systems of records notices apply to this system.

Policies and Practices for Storing, Retrieving, Accessing, Retaining, and Disposing of Records in the System:

Storage:

Electronic media.

Retrievability:

Individual's name and/or organization and program element code.

Safeguards:

Guards secure buildings during non-duty hours. Management personnel, who are responsible for maintaining the confidentiality of the records, control access to the records. Use of the information is restricted to those who require the records in the performance of their official duties and with a need-to-know. Access to personnel information is further restricted by the use Common Access Card (CAC) authorization.

Retention and Disposal:

Records are continuously updated. Obsolete computer records are erased or overwritten at the end of two years.

System Manager(s) and Address:

System manager, CFE7, Defense Information Systems Agency, P.O. Box 4520, Arlington, VA 22204-4502.

Notification Procedure:

Individuals seeking to determine whether information about themselves is contained in this system of records should address written inquire to System Manger, CFE7, Defense Information Systems Agency, P.O. Box 4520, Arlington, VA 22204-4502.

The individual should refer to the office where he/she is/was assigned or affiliated. Include address and telephone number applicable to the period during which the record was maintained. Social Security Number (SSN) will be used for positive identification.

Records Access Procedure:

Individuals seeking access to information about themselves contained in this system of records should address written inquires to System Manger, CFE7, Defense Information Systems Agency, P.O. Box 4520, Arlington, VA 22204-4502.

The individual should refer to the office where he/she is/was assigned or affiliated and include address and telephone number applicable to the period during which the record was maintained. Social Security Number (SSN) will be used for positive identification.

Contesting Record Procedures:

DISA's rules for accessing records, for contesting contents and appealing initial agency determinations are published in DISA Instruction 210-225-2 at 32 CFR part 316 or may be obtained from the system manager.

Record source categories:

Employee, DISA Accounting system, DISA payroll database records.

Exemptions Claimed for the System:

None.

[FR Doc. E8-18596 Filed 8-11-08; 8:45 am]

BILLING CODE 5001-06-P